NUCLEAR REGULATORY COMMISSION

[Docket No. 50-608; NRC-2013-0053]

SHINE Medical Technologies, Inc.

AGENCY: Nuclear Regulatory Commission.

ACTION: Notice; acceptance for docketing.

SUMMARY: The NRC staff has determined that the partial application for a construction permit, submitted by SHINE Medical Technologies, Inc., is acceptable for docketing.

ADDRESSES: Please refer to Docket ID NRC-2013-0053 when contacting the NRC about the availability of information regarding this document. You may access information related to this document, which the NRC possesses and is publicly available, using any of the following methods:

• Federal Rulemaking Web site: Go to http://www.regulations.gov and search for Docket ID NRC-2013-0053. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The application is available in ADAMS under accession number ML130880226.

• NRC's PDR: You may examine and purchase copies of public documents at the NRC's PDR, Room O1-F21, One White Flint North, 11555 Rockville Pike, Rockville, Maryland 20852.

FOR FURTHER INFORMATION CONTACT: Steven Lynch, Project Manager, Office of Nuclear Reactor Regulation, U.S. Nuclear Regulatory Commission, Washington, DC, 20555-0001; telephone: 301-415-1524; email: Steven.Lynch@nrc.gov.

SUPPLEMENTARY INFORMATION: On March 26, 2013, SHINE Medical Technologies (SHINE) filed with the U.S. Nuclear Regulatory Commission (NRC), pursuant to Section 103 of the Atomic Energy Act and part 50 of Title 10 of the Code of Federal Regulations (10 CFR), a portion of an application for a construction permit for a medical radioisotope production facility in Janesville, Wisconsin (SMT-2013-012, NRC's ADAMS Accession No. ML13088A192). A notice of receipt and availability of this application was previously published in the Federal Register (78 FR 29390) on May 20, 2013.

An exemption from certain requirements of 10 CFR 2.101(a)(5) granted by the Commission on March 20, 2013 (ADAMS Accession No. ML13072B195), in response to a letter from SHINE dated February 18, 2013 (ADAMS Accession No. ML13051A007), allowed for SHINE to submit its construction permit application in two parts. Specifically, the exemption allowed SHINE to submit a portion of its application for a construction permit up to six months prior to the remainder of the application regardless of whether or not an environmental impact statement or a supplement to an environmental impact statement is prepared during the review of its application. The first part of SHINE's construction permit application consisted of the following information:

• The description and safety assessment of the site required by 10 CFR 50.34(a)(1)

• The environmental report required by 10 CFR 50.30(f)

• The filing fee information required by 10 CFR 50.30(e) and 10 CFR 170.21

• The general information required by 10 CFR 50.33

• The agreement limiting access to classified information required by 10 CFR 50.37

The NRC staff has determined that SHINE has submitted the information listed above in accordance with 10 CFR 2.101(a)(5), and that the partial application is acceptable for docketing. The docket number established for SHINE is 50-608.

The NRC staff will perform a detailed technical review of the partial construction permit application. Docketing of the partial construction permit application does not preclude the NRC from requesting additional information from the applicant as the review proceeds, nor does it predict whether the Commission will grant or deny the application. The NRC staff will also perform an acceptance review of the second and final part of the construction permit application when it is tendered. As stated in SHINE's March 26, 2013, letter, the second and final part of SHINE's application for a construction permit will contain the remainder of the preliminary safety analysis report required by 10 CFR 50.34(a) and will be submitted in accordance with the requirements of 10 CFR 2.101(a)(5). If, after completion of the acceptance review of the full construction permit application, the full construction permit application is found acceptable for docketing, the Commission will conduct a hearing in accordance with Subpart L, “Informal Hearing Procedures for NRC Adjudications,” of 10 CFR Part 2 and will receive a report on the construction permit application from the Advisory Committee on Reactor Safeguards consistent with 10 CFR 50.58, “Hearings and report of the Advisory Committee on Reactor Safeguards.” The Commission will announce in a future Federal Register notice, the opportunity to petition for leave to intervene in the hearing required for this application by 10 CFR 50.58, as well as the time and place of the hearing. If the Commission finds that the full construction permit application meets the applicable standards of the Atomic Energy Act and the Commission's regulations, and that required notifications to other agencies and bodies have been made, the Commission will issue a construction permit, in the form and containing conditions and limitations that the Commission finds appropriate and necessary.

In accordance with 10 CFR part 51, the Commission will also prepare an environmental impact statement for the proposed action. Pursuant to 10 CFR 51.26, and as part of the environmental scoping process, the NRC staff intends to hold a public scoping meeting. Detailed information regarding this meeting will be included in a future Federal Register notice.

Dated at Rockville, Maryland, this 25th day of June, 2013.
For the Nuclear Regulatory Commission.
Alexander Adams, Jr.,
Chief, Research and Test Reactors Licensing Branch, Division of Policy and Rulemaking, Office of Nuclear Reactor Regulation.

[FR Doc. 2013-15678 Filed 6-28-13; 8:45 am]

BILLING CODE 7590-01-P